DEPARTMENT OF COMMERCE

National Oceanic and Atmospheric Administration

RIN 0648-XN39

Endangered and Threatened Species; Take of Anadromous Fish

AGENCY: National Marine Fisheries Service (NMFS), National Oceanic and Atmospheric Administration (NOAA), Commerce.

ACTION: Receipt of application for a scientific permit; request for comments.

SUMMARY: Notice is hereby given that NMFS has received a revised application for scientific research from the U.S. Fish and Wildlife Service USFWS- Red Bluff (RBFWO), in Red Bluff, CA, and USFWS-Sacramento (SFWO), in Sacramento, CA (1415). The permit would affect the federally endangered Sacramento River winter-run Chinook salmon and threatened Central Valley spring-run Chinook salmon Evolutionarily Significant Units (ESUs), the federally threatened Central Valley steelhead Distinct Population Segment (DPS), and the federally threatened southern Distinct Population of North American green sturgeon (southern DPS of green sturgeon). This document serves to notify the public of the availability of the permit application for review and comment.

DATES: Written comments on the permit applications must be received no later than 5 p.m. Pacific Standard Time on March 23, 2009.

ADDRESSES: Comments submitted by e-mail must be sent to the following address FRNpermits.SAC@noaa.gov. The application and related documents are available for review by appointment, for permit 1415: Protected Resources Division, NMFS, 650 Capitol Mall, Room 8-300, Sacramento, CA 95814-4706 (ph: 916-930-3601, fax: 916-930-3629).

FOR FURTHER INFORMATION CONTACT: Shirley Witalis at phone number 916-930-3601, or e-mail: Shirley.Witalis@noaa.gov.

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally-listed Sacramento River winter-run Chinook salmon (Oncorhynchus tshawytscha) ESU, threatened Central Valley spring-run Chinook salmon (O. tshawytscha) ESU, threatened Central Valley steelhead (O. mykiss) DPS, and threatened southern DPS of North American green sturgeon (Acipenser medirostris).

Applications Received

USFWS requests a 5-year permit (1415) for take of adult and juvenile Sacramento River winter-run Chinook salmon, Central Valley spring-run Chinook salmon, Central Valley steelhead; and juvenile larvae and eggs of North American green sturgeon associated with monitoring and research activities conducted in the Sacramento-San Joaquin river basins, Central Valley, CA.

RBFWO requests authorization for estimated annual take of adult and juvenile Sacramento River winter-run Chinook salmon, adult and juvenile Central Valley spring-run Chinook salmon, adult and juvenile California Valley steelhead, and the juvenile larvae and eggs of Southern DPS of North American green sturgeon for five consecutive years, resulting from research and monitoring activities involving the capture (by trawl, seine, fyke-net trap, hook and line, electrofishing, weir trap, egg trap, rotary screw trap or by hand), handling, fin clipping, tissue sampling, coded-wire tag extraction, otolith extraction, marking/tagging, release of fish, and conducting redd and carcass surveys, in associated with following nine projects.

Project 1 is an annual survey of the fish community structure in the Battle Creek watershed (a tributary to the Sacramento River) in Shasta County, California. This project will estimate changes in fish community distribution and abundance which may affect the success of the Battle Creek Salmon and Steelhead Restoration Project or which may occur as a result of the restoration project. Research activities associated with Project 1 involves direct observation of fish, observation by snorkel surveys; seining and electrofishing.

Project 2 monitors the annual production of juvenile Chinook salmon and steelhead in Battle Creek for purposes of (1) generating production indices for all runs of Chinook salmon and steelhead for evaluation of compliance with the Anadromous Fish Restoration Program (AFRP) production targets, assessing restoration activities toward meeting AFRP production goals, and obtaining important life history, condition and behavioral information. Research activities associated with Project 2 includes the collection and holding of salmonids through rotary screw traps, mark/recapture, and the application of anesthesia.

Project 3 monitors the annual adult salmonid escapement (species, number, timing, age, size, gender, timing and location of spawning, and potential limiting factors at various life stages) in Battle Creek. Monitoring is carried out at the Coleman National Fish Hatchery barrier weir, and through redd and carcass surveys in Battle Creek, to provide information for adaptive management of the Battle Creek Salmon and Steelhead Restoration Project.

Project 4 monitors juvenile salmonids out-migration and condition as a means of assess the effectiveness of restoration activities in Clear Creek (a tributary to Sacramento River) in Shasta County, CA. Research activities associated with Project 4 involves the collection and holding of juvenile salmonids through rotary screw traps, mark/recapture, and the application of anesthesia.

Project 5 monitors fish response to restoration actions (stream channel restoration, gravel enhancement, increase of minimum stream flows) implemented in Clear Creek, for purposes of evaluation and adaptive management of the Clear Creek Restoration Program. Research activities associated with Project 5 may include the collection, transport and holding of fish; fish observation by stream survey, walking or wading; seining and electrofishing; fish rescues; application of anesthesia; conducting fish weight and length measurements, collection of fish scales for life history analysis; and retention of (carcass) fish heads for coded-wire extraction and/otolith analyses.

Project 6 monitors adult salmon escapement at the Red Bluff Diversion Dam fish ladder for purposes of identifying fall, late-fall, winter, and spring Chinook salmon run components of adult return migration. Research activities associated with Project 6 include the trapping, collecting, holding, and handling of fish, and examination of fish for condition assessment and identification of marks.

Project 7 monitors the seasonal, temporal, diel and spatial patterns of abundance of juvenile winter, spring, fall, and late-fall Chinook salmon and steelhead and green sturgeon passing RBDD in the upper Sacramento River basin; and allows for refining (model) the accuracy and precision of juvenile passage estimates. Research activities associated with Project 7 includes fish sampling by rotary screw trap, holding, and handling of juvenile salmon and steelhead for application of anesthesia, species identification, enumeration, forklength measurements, genetic analysis, marking/tagging, and release.

Project 8 conducts a carcass survey on winter-run Chinook salmon from the Clear Creek confluence area to the Keswick Dam in the upper Sacramento River watershed, for purposes providing annual adult escapement estimates on winter-run Chinook salmon. Research activities associated with Project 8 include recording carcass location, collecting forklength measurements, identifying gender and origin (hatchery [absence of adipose fin] or natural), evaluation of spawning success; and water quality (temperature and clarity) measurements.

Project 9 conducts research on the spawning habitat and larval drift characteristics of Southern Distinct Population Segment green sturgeon from Ord Ferry Bridge to Keswick Dam in the upper Sacramento River watershed for purposes of providing basic life history information. Research activities associated with Project 9 include determining spawning sites by sampling eggs with egg mats, and sampling larval green sturgeon using a benthic D-net, fyke net, push nets, or seines, to determine temporal and spatial drift characteristics of migrating larvae.

SFWO requests authorization for estimated annual take of juvenile Central Valley spring-run Chinook salmon and juvenile California Valley steelhead associated with Project 10 for five consecutive years, associated with research and monitoring activities involving visual observations (underwater observations on estimated fish numbers and forklengths, and fish utilization of riverine habitat) and physical habitat measurements (taking measurements of water depths and velocities, surveying water surface elevations and bed elevations).

Project 10 conducts monitoring and research activities to assess the status of streamflows in Central Valley streams prioritized by AFRP for doubling anadromous fish production over the base period of 1967 to 1991. Project 10 will assess instream flows in Clear Creek, South Cow Creek, and Old Cow Creek in the Sacramento River watershed, and the Tuolumne River in the San Joaquin River watershed, and determine the need for recommendations on streamflow requirements necessary to support populations of anadromous salmonids species and other game fish in said sampled streams.

Dated: February 13, 2009.
Angela Somma,
Division Chief, Endangered Species Division, Office of Protected Resources, National Marine Fisheries Service.

[FR Doc. E9-3686 Filed 2-19-09; 8:45 am]

BILLING CODE 3510-22-S